ENVIRONMENTAL PROTECTION AGENCY

40 CFR Part 300

[EPA-HQ-SFUND-2009-0501; FRL-8934-1]

National Oil and Hazardous Substance Pollution Contingency Plan National Priorities List

AGENCY: Environmental Protection Agency.

ACTION: Notice of Intent to Delete the Southern California Edison, Visalia Pole Yard Superfund Site from the National Priorities List.

SUMMARY: The Environmental Protection Agency (EPA) Region IX is issuing a Notice of Intent to Delete the Southern California Edison (SCE), Visalia Pole Yard Superfund Site (Site) located in northeastern Visalia, Tulare County, California, from the National Priorities List (NPL), and requests public comments on this action. The NPL, promulgated pursuant to section 105 of the Comprehensive Environmental Response, Compensation, and Liability Act (CERCLA) of 1980, as amended, is an appendix of the National Oil and Hazardous Substances Pollution Contingency Plan (NCP). The EPA and the State of California, through the Department of Toxic Substances Control (DTSC), have determined that all appropriate response actions under CERCLA, other than operation, maintenance, and five-year reviews, have been completed. However, this deletion does not preclude future actions under Superfund.

DATES: Comments concerning deletion of this Site must be received by August 26, 2009.

ADDRESSES: Submit your comments, identified by Docket ID No. EPA-HQ-SFUND-2009-0501 by one of the following methods:

• http://www.regulations.gov. Follow online instructions for submitting comments.

• E-mail: lane.jackie@epa.gov.

• Fax: (415) 947-3528.

• Mail: Jackie Lane, Community Involvement Coordinator, U.S. EPA Region IX (SFD 6-3), 75 Hawthorne Street, San Francisco, California 94105.

• Phone: (415) 972-3236.

• Hand delivery: U.S. EPA Region IX (SFD 6-3), 75 Hawthorne Street, San Francisco, California 94105. Deliveries are only accepted during regular office days and hours of operation (Monday through Friday, 8 a.m. to 5 p.m.). Special arrangements will need to be made with EPA staff for deliveries of boxed information.

Instructions: Direct your comments to Docket ID No. EPA-HQ-SFUND-2009-0501. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means that EPA will not know your identity or contact information unless it is provided it in the body of your comment. If you send an e-mail comment directly to EPA without going through http://www.regulations.gov, your e-mail address will be automatically captured and included as part of the publicly available docket on the Internet. EPA recommends that all submittals include your name and other contact information (i.e. e-mail and/or physical address and phone number). Please note that electronic file submittals should be free of any physical defects and computer viruses and avoid the use of special characters and any form of encryption. If technical difficulties prevent EPA from reading your comment and cannot contact you for clarification, EPA may not be able to consider your comment.

Docket

All documents in the docket are listed in the http://www.regulations.gov index; however, although listed in the index, some information is not publicly available (e.g. CBI or other information whose disclosure is restricted by disclosure statute. Certain other materials, such as copyrighted materials, will be publicly available only in the hard copy. All other publicly available docket materials are available either electronically in http://www.regulations.gov or in hard copy at the Site Information repositories below:

U.S. EPA Superfund Records Center, 95 Hawthorne Street, San Francisco, California 94105-3901, (415) 536-2000.

Tulare County Public Library, 200 West Oak Street, Visalia, CA 93291, (818) 952-0603.

FOR FURTHER INFORMATION CONTACT: Charnjit Bhullar, Remedial Project Manager, U.S. EPA Region IX (SFD 7-3), 75 Hawthorne Street, San Francisco, California 94105, (415) 972-3960.

SUPPLEMENTARY INFORMATION: In the “Rules and Regulations” section of today's Federal Register, we are publishing a direct final Notice of Deletion of the Southern California Edison (SCE), Visalia Pole Yard Superfund Site without prior Notice of Intent to Delete because we view this as a noncontroversial revision and anticipate no adverse comment. We have explained our reasons for this deletion in the preamble to the direct final Notice of Deletion, and those reasons are incorporated herein. If we receive no adverse comment(s) on this deletion action, we will not take further action on this Notice of Intent to Delete. If we receive adverse comment(s), we will withdraw the direct final Notice of Deletion, and it will not take effect. We will, as appropriate, address all public comments in a subsequent final Notice of Deletion based on this Notice of Intent to Delete. We will not institute a second comment period on this Notice of Intent to Delete. Any parties interested in commenting must do so at this time.

For additional information, see the direct final Notice of Deletion which is located in the Rules section of this Federal Register.

List of Subjects in 40 CFR Part 300

Environmental protection, Air pollution control, Chemicals, Hazardous substances, Hazardous waste, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: July 15, 2009.
Laura Yoshii,
Acting Regional Administrator, Region IX.

[FR Doc. E9-17564 Filed 7-24-09; 8:45 am]

BILLING CODE 6560-50-P